DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times: September 22, 2010, 11 a.m. to 3 p.m., EDT.

Place: Conference Call.

Status: The meeting will be open to the public. The conference call access will be limited only by availability of telephone ports.

Purpose: The Committee members will finalize their efforts to develop the Tenth Annual Report for the Secretary of the Department of Health and Human Services (the Secretary) and Congress, focusing on the topic Preparing the Interprofessional Workforce to Manage Health Behaviors. The Committee proposes to discuss a concept paper with its author Dr. Bonnie Spring, Director of Behavioral Medicine, Feinberg School of Medicine, Northwestern University. This paper will be included in the final report. The meeting will afford Committee members with the opportunity to finalize the outstanding components of the annual report.

Agenda: The ACICBL agenda includes a presentation by Dr. Bonnie Spring, author of the concept paper that will be included in the Tenth Annual Report and a discussion facilitated by expert writer, Dr. Katharine Hendrix. Agenda items are subject to change as dictated by the priorities of the Committee.

SUPPLEMENTARY INFORMATION: Requests to make oral comments or to provide written comments to the ACICBL should be sent to Dr. Joan Weiss, Designated Federal Official at the contact information below. Individuals who plan to participate on the conference call should notify Dr. Weiss at least three days prior to the meeting, using the address and phone number below. Members of the public will have the opportunity to provide comments. The meeting phone number is 888-989-3319 and the pass code is 56615. Interested parties should refer to meeting subject as the HRSA Advisory Committee on Interdisciplinary, Community-Based Linkages.

The logistical challenges encountered with confirming a quorum to finalize the outstanding components of the annual report hindered an earlier publishing of the meeting notice.

FOR FURTHER INFORMATION CONTACT: Anyone requesting information regarding the ACICBL should contact Dr. Joan Weiss, Designated Federal Official within the Bureau of Health Professions, Health Resources and Services Administration, in one of three ways: (1) Send a request to the following address: Dr. Joan Weiss, Designated Federal Official, Bureau of Health Professions, Health Resources and Services Administration, Parklawn Building, Room 9-36, 5600 Fishers Lane, Rockville, Maryland 20857; (2) call (301) 443-6950; or (3) send an e-mail to jweiss@hrsa.gov. In the absence of Dr. Weiss, CAPT Norma J. Hatot, Senior Nurse Consultant, can be contacted via telephone at (301) 443-2681 or by e-mail at nhatot@hrsa.gov.

Dated: September 8, 2010.
Sahira Rafiullah,
Director, Division of Policy and Information Coordination.

[FR Doc. 2010-22907 Filed 9-14-10; 8:45 am]

BILLING CODE 4165-15-P